POSTAL REGULATORY COMMISSION

Notice Initiating Docket(s) for Recent Postal Service Competitive Negotiated Service Agreement Filings

(Issued April 1, 2025.)

| Docket No.
Competitive Product Prices, Priority Mail & USPS Ground Advantage Contracts, Priority Mail & USPS Ground Advantage Contract 655 | MC2025-1247
Competitive Product Prices, Priority Mail & USPS Ground Advantage Contract 655 (MC2025-1247), Negotiated Service Agreements | K2025-1246
Competitive Product Prices, Priority Mail & USPS Ground Advantage Contracts, Priority Mail & USPS Ground Advantage Contract 664 | MC2025-1259
Competitive Product Prices, Priority Mail & USPS Ground Advantage Contract 664 (MC2025-1259), Negotiated Service Agreements | K2025-1258
Competitive Product Prices, Priority Mail & USPS Ground Advantage Contracts, Priority Mail & USPS Ground Advantage Contract 665 | MC2025-1260
Competitive Product Prices, Priority Mail & USPS Ground Advantage Contract 665 (MC2025-1260), Negotiated Service Agreements | K2025-1259
Competitive Product Prices, Priority Mail & USPS Ground Advantage Contracts, Priority Mail & USPS Ground Advantage Contract 666 | MC2025-1261
Competitive Product Prices, Priority Mail & USPS Ground Advantage Contract 666 (MC2025-1261), Negotiated Service Agreements | K2025-1260
Competitive Product Prices, Priority Mail & USPS Ground Advantage Contracts, Priority Mail & USPS Ground Advantage Contract 668 | MC2025-1263
Competitive Product Prices, Priority Mail & USPS Ground Advantage Contract 668 (MC2025-1263), Negotiated Service Agreements | K2025-1262
Competitive Product Prices, Priority Mail & USPS Ground Advantage Contracts, Priority Mail & USPS Ground Advantage Contract 675 | MC2025-1273
Competitive Product Prices, Priority Mail & USPS Ground Advantage Contract 675 (MC2025-1273), Negotiated Service Agreements | K2025-1272
Competitive Product Prices, Priority Mail & USPS Ground Advantage Contracts, Priority Mail & USPS Ground Advantage Contract 676 | MC2025-1274
Competitive Product Prices, Priority Mail & USPS Ground Advantage Contract 676 (MC2025-1274), Negotiated Service Agreements | K2025-1273

I. Introduction

Pursuant to 39 CFR 3041.405, the Commission gives notice that the Postal Service filed request(s) for the Commission to consider matters related to Competitive negotiated service agreement(s). The request(s) may propose the addition of a negotiated service agreement from the Competitive product list or the modification of an existing product currently appearing on the Competitive product list.

The public portions of the Postal Service's request(s) can be accessed via the Commission's website (https://www.prc.gov). Non-public portions of the Postal Service's request(s), if any, can be accessed through compliance with the requirements of 39 CFR 3011.301.¹

¹ See Docket No. RM2018-3, Order Adopting Final Rules Relating to Non-Public Information, June 27, 2018, Attachment A at 19-22 (Order No. 4679).

Section II identifies the docket number(s) associated with each Postal Service request, if any, that will be reviewed in a public proceeding as defined by 39 CFR 3010.101(p), the title of each such request, the request's acceptance date, and the authority cited by the Postal Service for each request. For each such request, the Commission appoints an officer of the Commission to represent the interests of the general public in the proceeding, pursuant to 39 U.S.C. 505 and 39 CFR 3000.114 (Public Representative). Section II also establishes comment deadline(s) pertaining to each such request.

The Commission invites comments on whether the Postal Service's request(s) identified in Section II, if any, are consistent with the policies of title 39. Applicable statutory and regulatory requirements include 39 U.S.C. 3632, 39 U.S.C. 3633, 39 U.S.C. 3642, 39 CFR part 3035, and 39 CFR part 3041. Comment deadline(s) for each such request, if any, appear in Section II.

Section III identifies the docket number(s) associated with each Postal Service request, if any, to add a standardized distinct product to the Competitive product list or to amend a standardized distinct product, the title of each such request, the request's acceptance date, and the authority cited by the Postal Service for each request. Standardized distinct products are negotiated service agreements that are variations of one or more Competitive products, and for which financial models, minimum rates, and classification criteria have undergone advance Commission review. See 39 CFR 3041.110(n); 39 CFR 3041.205(a). Such requests are reviewed in summary proceedings pursuant to 39 CFR 3041.325(c)(2) and 39 CFR 3041.505(f)(1). Pursuant to 39 CFR 3041.405(c)-(d), the Commission does not appoint a Public Representative or request public comment in proceedings to review such requests.

II. Public Proceeding(s)

1. Docket No(s).: MC2025-1247 and K2025-1246; Filing Title: USPS Request to Add Priority Mail & USPS Ground Advantage Contract 655 to the Competitive Product List and Notice of Filing Materials Under Seal; Filing Acceptance Date: March 31, 2025; Filing Authority: 39 U.S.C. 3642, 39 CFR 3035.105, and 39 CFR 3041.310; Public Representative: Maxine Bradley; Comments Due: April 8, 2025.

2. Docket No(s).: MC2025-1259 and K2025-1258; Filing Title: USPS Request to Add Priority Mail & USPS Ground Advantage Contract 664 to the Competitive Product List and Notice of Filing Materials Under Seal; Filing Acceptance Date: March 31, 2025; Filing Authority: 39 U.S.C. 3642, 39 CFR 3035.105, and 39 CFR 3041.310; Public Representative: Christopher Mohr; Comments Due: April 8, 2025.

3. Docket No(s).: MC2025-1260 and K2025-1259; Filing Title: USPS Request to Add Priority Mail & USPS Ground Advantage Contract 665 to the Competitive Product List and Notice of Filing Materials Under Seal; Filing Acceptance Date: March 31, 2025; Filing Authority: 39 U.S.C. 3642, 39 CFR 3035.105, and 39 CFR 3041.310; Public Representative: Jennaca Upperman; Comments Due: April 8, 2025.

4. Docket No(s).: MC2025-1261 and K2025-1260; Filing Title: USPS Request to Add Priority Mail & USPS Ground Advantage Contract 666 to the Competitive Product List and Notice of Filing Materials Under Seal; Filing Acceptance Date: March 31, 2025; Filing Authority: 39 U.S.C. 3642, 39 CFR 3035.105, and 39 CFR 3041.310; Public Representative: Arif Hafiz; Comments Due: April 8, 2025.

5. Docket No(s).: MC2025-1263 and K2025-1262; Filing Title: USPS Request to Add Priority Mail & USPS Ground Advantage Contract 668 to the Competitive Product List and Notice of Filing Materials Under Seal; Filing Acceptance Date: March 31, 2025; Filing Authority: 39 U.S.C. 3642, 39 CFR 3035.105, and 39 CFR 3041.310; Public Representative: Kenneth Moeller; Comments Due: April 8, 2025.

6. Docket No(s).: MC2025-1273 and K2025-1272; Filing Title: USPS Request to Add Priority Mail & USPS Ground Advantage Contract 675 to the Competitive Product List and Notice of Filing Materials Under Seal; Filing Acceptance Date: March 31, 2025; Filing Authority: 39 U.S.C. 3642, 39 CFR 3035.105, and 39 CFR 3041.310; Public Representative: Annette Morin; Comments Due: April 8, 2025.

7. Docket No(s).: MC2025-1274 and K2025-1273; Filing Title: USPS Request to Add Priority Mail & USPS Ground Advantage Contract 676 to the Competitive Product List and Notice of Filing Materials Under Seal; Filing Acceptance Date: March 31, 2025; Filing Authority: 39 U.S.C. 3642, 39 CFR 3035.105, and 39 CFR 3041.310; Public Representative: Evan Wise; Comments Due: April 8, 2025.

III. Summary Proceeding(s)

None. See Section II for public proceedings.

This Notice will be published in the Federal Register.

Erica A. Barker,
Secretary.

Media Inquiries

Gail Adams,

gail.adams@prc.gov

[FR Doc. 2025-05828 Filed 4-3-25; 8:45 am]

BILLING CODE P